DEPARTMENT OF ENERGY

Federal Energy Regulatory Commission

[IC07-549B-001, FERC 549B]

Commission Information Collection Activities, Proposed Collection; Comment Request; Extension

June 20, 2007.

AGENCY: Federal Energy Regulatory Commission, Department of Energy.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission did not receive any comments in response to an earlier Federal Register notice of March 19, 2007 (72 FR 12786-12787) and has made a notation in its submission to OMB.

DATES: Comments on the collection of information are due by July 28, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC07-549B-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC 549B “Gas Pipeline Rates: Capacity Information”.

2. Sponsor: Federal Energy Regulatory Commission.

3. Control No.: 1902-0169.

The Commission is now requesting that OMB approve and extend the expiration date for an additional three years with no changes to the existing collection. The information filed with the Commission is mandatory.

4. Necessity of the Collection of Information: Submission of the information is necessary for the Commission to carry out its responsibilities in implementing the statutory provisions of sections 4, 5, and 16 of the NGA, 15 U.S.C. 717c-717o, Public Law 75-688, 52 Stat. 822 and 830 and Title III of the NGPA, 15 U.S.C. 3301-3432, Public Law 95-621.

Capacity Reports

On April 4, 1992, in Order No. 636, the Commission established a capacity release mechanism under which shippers could release firm transportation and storage capacity on either a short or long term basis to other shippers wanting to obtain capacity. Pipelines posted available firm and interruptible capacity information on their electronic bulletin boards (EBBs) to inform potential shippers. On September 11, 1992, in Order No. 636-A, the Commission determined, through staff audits, that the efficiency of the capacity release mechanism could be enhanced by standardizing the content and format of capacity release information and the methods by which shippers access this information, posted to EBBs.

On April 4, 1995, through Order 577 (RM95-5-000), the Commission amended §284.243(h) of its regulations to allow shippers the ability to release capacity without having to comply with the Commission's advance posting and bidding requirements.

To create greater substitution between different forms of capacity and to enhance competition across the pipeline grid, on February 25, 2000, in Order No. 637 RM98-10-000), the Commission revised its capacity release regulations regarding scheduling, segmentation and flexible point rights, penalties, and reporting requirements. This resulted in more reliable capacity information availability and price data that shippers needed to make informed decisions in a competitive market as well as to improve shipper's and the Commission's availability to monitor marketplace behavior.

Index of Customers

In Order 581, issued September 28, 1995, the Commission established the Index of Customers (IOC) information requirement. The Index of Customers had two functions, first, for analyzing capacity held on pipelines and second, for providing capacity information to the market. The Index of Customers information aids the capacity release system by enabling shippers to identify and locate those holding capacity rights that the shippers may want to acquire. The information was required to be posted on the pipeline's EBB and filed on electronic media with the Commission. This first Index contained, for all firm customers under contract as of the first day of the calendar quarter, the full legal name of the shipper, the rate schedule number for which service is contracted, the contract effective and expiration dates, and the contract quantities.

In Order 637, the Commission required the following additional information: the receipt and delivery points held under contract and the zones or segments in which the capacity is held; the common transaction point codes; the contract number; a shipper identification number, such as DUNS; an indication whether the contract includes negotiated rates; the names of any agents or asset managers that control capacity in a pipeline rate zone; and any affiliate relationship between the pipeline and the holder of capacity. The Index is now provided through a quarterly filing on electronic media to the Commission and is posted on pipelines' Internet Web sites.

5. Respondent Description: The respondent universe currently comprises 103 companies (on average) subject to the Commission's jurisdiction. Capacity reports: 179,838 hours/2080 work hours per year × $122,137 = $10,560,035; Index of Customers (IOC): 1,236 hours/2080 work hours per year × $122,137 = $72,578 Total Costs = $10,632,613. The estimated annual cost per respondent is: Capacity Reports: $102,525; Index of Customers: $705.

6. Estimated Burden: 181,074 total hours, 103 respondents (average), 6 (Capacity Reports), 4 (Index of Customers) responses per respondent, and 291 (Capacity Reports), 3 (Index of Customers) hours per response (rounded off and average time)

7. Estimated Cost Burden to respondents: 181,074 hours/2080 hours per years × $122,137 per year = $10,560,035. The cost per respondent is equal to $102,525; Index of Customers: $705.

Statutory Authority: Statutory provisions of sections 4, 5 and 16 Natural Gas Act, 15 U.S.C. 717c-717o.

Kimberly D. Bose,
Secretary.

[FR Doc. E7-12469 Filed 6-27-07; 8:45 am]

BILLING CODE 6717-01-P